DEPARTMENT OF TRANSPORTATION

Federal Aviation Administration

Third Meeting: RTCA Special Committee 226, Audio Systems and Equipment

AGENCY: Federal Aviation Administration (FAA), U.S. Department of Transportation (DOT).

ACTION: Meeting Notice of RTCA Special Committee 226, Audio Systems and Equipment.

SUMMARY: The FAA is issuing this notice to advise the public of the third meeting of RTCA Special Committee 226, Audio Systems and Equipment.

DATES: The meeting will be held July 10-12, 2012, from 9 a.m.-5 p.m.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 226. The agenda will include the following:

July 10-12, 2012

• Welcome and Administrative Remarks.

• Introductions.

• Agenda Overview.

• Review previous action items.

• Assess work required and timelines for conclusion of committee work.

• Solicit proposals for further changes to DO-214.

• Continue discussion on the following:

• Risks of usage of adaptive technology during test.

• Discuss results of proposed committee letter(s) to invite additional. headsets, MIC's and CVR manufacturers.

• Addition of noise test requirement to the vibration test variable nature of Oxygen Mask.

• Microphone and Hand Microphone performance in the marketplace.

• Re-examine proposal to remove CVR Area Microphone requirements from standard in lieu of ED-112.

• FAA info letter addressing use of Active Noise Reduction (ANR) and Powered ANR headsets to discuss concern of EMI, EMC effects on power leads affecting communications.

• Sensitivity versus output power as they correlate with its specified ratings.

• Continue review of DO-214 and draft updates/changes.

• Review draft language for noise test requirement to combine with the vibration test.

• Other Business.

• Establish agenda for next meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time. Issued in Washington, DC, on June 15, 2012.

Kathy Hitt,
Program Analyst, Business Operations Branch, Federal Aviation Administration.

[FR Doc. 2012-15277 Filed 6-21-12; 8:45 am]

BILLING CODE 4910-13-P